FEDERAL ELECTION COMMISSION

Sunshine Act Meetings

AGENCY: Federal Election Commission.

DATE & TIME: Thursday, May 19, 2016 at 10:00 a.m.

PLACE: 999 E Street, NW., Washington, DC (ninth floor).

STATUS: This meeting will be open to the public.

Federal Register Notice of Previous Announcement—81 FR 30304.

The Following Item Was Also Discussed: REG 2014-01 Outline of Draft NPRM Implementing Party Segregated Accounts.

PERSON TO CONTACT FOR INFORMATION: Judith Ingram, Press Officer, Telephone: (202) 694-1220.

Shawn Woodhead Werth,
Secretary and Clerk of the Commission.

[FR Doc. 2016-12298 Filed 5-20-16; 11:15 am]

BILLING CODE 6715-01-P